DEPARTMENT OF TRANSPORTATION

Federal Aviation Administration

14 CFR Part 71

[Docket No. FAA-2023-0328; Airspace Docket No. 22-ASO-37]

RIN 2120-AA66

Revocation, Amendment, and Establishment of Air Traffic Service (ATS) Routes Due to the Decommissioning of the Greene County, MS, VOR

AGENCY: Federal Aviation Administration (FAA), DOT.

ACTION: Notice of proposed rulemaking (NPRM).

SUMMARY: This action proposes to remove Jet Route J-590, amend Very High Frequency (VHF) Omnidirectional Range (VOR) Federal airways V-11 and V-70, and establish Area Navigation (RNAV) route T-365. The FAA is proposing this action due to the planned decommissioning of the VOR portion of the Greene County, MS (GCV), VOR/Tactical Air Navigation (VORTAC) navigational aid (NAVAID). The Greene County VOR is being decommissioned in support of the FAA's VOR Minimum Operational Network (MON) program.

DATES: Comments must be received on or before April 20, 2023.

ADDRESSES: Send comments identified by FAA Docket No. FAA-2023-0328 and Airspace Docket No. 22-ASO-37 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11G, Airspace Designations and Reporting Points, and subsequent amendments can be viewed online at www.faa.gov/air_traffic/publications/.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System (NAS) as necessary to preserve the safe and efficient flow of air traffic.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Operations Support Group, Central Service Center, Federal Aviation Administration, 10101 Hillwood Parkway, Fort Worth, TX 76177.

Incorporation by Reference

Jet Routes are published in paragraph 2004, VOR Federal airways are published in paragraph 6010(a), and United States Area Navigation Routes (T-routes) are published in paragraph 6011 of FAA Order JO 7400.11, Airspace Designations and Reporting Points, which is incorporated by reference in 14 CFR 71.1 on an annual basis. This document proposes to amend the current version of that order, FAA Order JO 7400.11G, dated August 19, 2022, and effective September 15, 2022. These updates would be published in the next update to FAA Order JO 7400.11. That order is publicly available as listed in the ADDRESSES section of this document.

FAA Order JO 7400.11G lists Class A, B, C, D, and E airspace areas, air traffic service routes, and reporting points.

Background

The FAA is planning to decommission the VOR portion of the Greene County, MS (GCV), VORTAC in October 2023. The Greene County VOR was one of the candidate VORs identified for discontinuance by the FAA's VOR MON program and listed in the final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082. Although the VOR portion of the Greene County VORTAC is planned for decommissioning, the co-located Tactical Air Navigation (TACAN) is being retained to provide navigational service for military operations and Distance Measuring Equipment (DME) service in support of current and future RNAV procedures.

The ATS routes affected by the Greene County VOR decommissioning are Jet Route J-590 and VOR Federal airways V-11 and V-70. The remaining ground-based NAVAID coverage in the area is insufficient to enable the continuity of J-590, V-11, or V-70 within the affected area. As such, the FAA proposes to remove J-590. The FAA also proposes to remove portions of V-11 and V-70, as the planned decommissioning of the Greene County VOR would create gaps in those airways.

To address the removal of Jet Route J-590, instrument flight rules (IFR) traffic could use adjacent Jet Routes J-2, J-37, J-50, and J-138 or receive air traffic control (ATC) radar vectors to fly through or around the affected area. Aircraft equipped with RNAV capabilities could also use RNAV routes Q-22, Q-24, and Q-56 or file point to point through the affected area using the fixes and waypoints (WP) that will remain in place.

To address impacts from the loss of portions of V-11 and V-70, IFR traffic could use adjacent VOR Federal airways V-114, V-222, and V-552, or receive ATC radar vectors to fly through or around the affected area. Aircraft equipped with RNAV capabilities could also use RNAV routes T-292 and T-406 or the new T-365 proposed to be established in this action, or file point to point through the affected area using the fixes and WPs that will remain in place. Visual flight rules (VFR) pilots who elect to navigate via the affected ATS routes could also take advantage of the adjacent ATS routes or ATC services listed previously.

In addition, the FAA proposes to establish a new RNAV route, T-365, to overlap the V-11 airway segments proposed to be removed. This new RNAV route would not only provide an additional mitigation to the proposed modification to V-11, but also support the FAA's NextGen efforts to modernize the NAS navigation system from ground-based to satellite-based.

The Proposal

The FAA is proposing an amendment to 14 CFR part 71 by removing Jet Route J-590, amending VOR Federal airways V-11 and V-70, and establishing RNAV route T-365 due to the planned decommissioning of the VOR portion of the Greene County, MS, VORTAC. The proposed ATS route actions are described below.

J-590: J-590 currently extends between the Lake Charles, LA, VORTAC and the Montgomery, AL, VORTAC. The FAA proposes to remove the Jet Route segment overlying the Greene County VORTAC between the Fighting Tiger, LA, VORTAC and the Montgomery VORTAC due to the Greene County VOR being decommissioned. Additionally, the FAA proposes to remove the Jet Route segment between the Lake Charles VORTAC and the Fighting Tiger VORTAC as it overlays the same Jet Route segment as J-2 and J-138, and RNAV route segment as Q-24. As a result, the Jet Route would be removed in its entirety.

V-11: V-11 currently extends between the Brookley, AL, VORTAC and the Magnolia, MS, VORTAC; and between the Cunningham, KY, VOR/Distance Measuring Equipment (VOR/DME) and the intersection of the Fort Wayne, IN, VORTAC 038° and Flag City, OH, VORTAC 308° radials (the EDGEE fix). The FAA proposes to remove the airway segment overlying the Greene County VORTAC between the Brookley VORTAC and the Magnolia VORTAC. As amended, the airway would extend between the Cunningham VOR/DME and the intersection of the Fort Wayne VORTAC 038° and Flag City VORTAC 308° radials (the EDGEE fix).

V-70: V-70 currently extends between the Monterrey, Mexico, VOR/DME and the Allendale, SC, VOR; and between the Grand Strand, SC, VORTAC and the Cofield, NC, VORTAC. The portions of V-70 within Mexico are excluded from this proposal. The FAA proposes to remove the airway segment overlying the Greene County VORTAC between the Picayune, MS, VOR/DME and the Monroeville, AL, VORTAC. As amended, the airway would extend between the Monterrey, Mexico, VOR/DME and the Picayune VOR/DME, between the Monroeville VORTAC and the Allendale VOR, and between the Grand Strand VORTAC and the Cofield VORTAC. If implemented as proposed, the portions of V-70 within Mexico would continue to be excluded.

T-365: T-365 is a new RNAV route that would extend between the Brookley, AL, VORTAC and the Magnolia, MS, VORTAC. This T-route would mitigate the loss of the V-11 airway segment proposed to be removed and provide RNAV routing capability from the Mobile, AL, area northwestward to the Jackson, MS, area.

All NAVAID radials in the VOR Federal airway descriptions below are unchanged and stated in degrees True north.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11G, Airspace Designations and Reporting Points, dated August 19, 2022, and effective September 15, 2022, is amended as follows:

Paragraph 2004 Jet Routes.

* * * * *

J-590 [Removed]

* * * * *

Paragraph 6010(a) Domestic VOR Federal Airways.

* * * * *

V-11 [Amended]

From Cunningham, KY; Pocket City, IN; Brickyard, IN; Marion, IN; Fort Wayne, IN; to INT Fort Wayne 038° and Flag City, OH, 308° radials.

* * * * *

V-70 [Amended]

From Monterrey, Mexico; Brownsville, TX; INT Brownsville 338° and Corpus Christi, TX, 193° radials; 34 miles standard width, 37 miles 7 miles wide (4 miles E and 3 miles W of centerline), Corpus Christi; INT Corpus Christi 054° and Palacios, TX, 226° radials; Palacios; Scholes, TX; Sabine Pass, TX; Lake Charles, LA; Lafayette, LA; Fighting Tiger, LA; to Picayune, MS. From Monroeville, AL; INT Monroeville 073° and Eufaula, AL, 258° radials; Eufaula; Vienna, GA; to Allendale, SC. From Grand Strand, SC; Wilmington, NC; Kinston, NC; INT Kinston 050° and Cofield, NC, 186° radials; to Cofield. The airspace within Mexico is excluded.

* * * * *

Paragraph 6011 United States Area Navigation Routes.

* * * * *

T-365 Brookley, AL (BFM) to Magnolia, MS (MHZ) [New]
Brookley, AL (BFM) | VORTAC | (Lat. 30°36′45.80″ N, long. 088°03′19.78″ W)
GARTS, MS | WP | (Lat. 31°05′52.39″ N, long. 088°29′10.68″ W)
Magnolia, MS (MHZ) | VORTAC | (Lat. 32°26′02.65″ N, long. 090°05′59.18″ W)

* * * * *

Issued in Washington, DC, on February 27, 2023.
Brian Konie,
Acting Manager, Airspace Rules and Regulations.

[FR Doc. 2023-04372 Filed 3-3-23; 8:45 am]

BILLING CODE 4910-13-P